DEPARTMENT OF STATE

DEPARTMENT OF TRANSPORTATION

Maritime Administration

[Public Notice 3833]

[Docket No. MARAD-2001-11135]

Secretary of State's Advisory Committee on Private International Law; Study Group on International Carriage of Goods by Sea; Meeting Notice

There will be a public meeting of a study group of the Secretary of State's Advisory Committee on Private International Law on Wednesday, January 9, 2002, to consider the draft instrument on the International Carriage of Goods by Sea, as prepared by the Comité Maritime International (CMI) for the United Nations Commission on International Trade Law (UNCITRAL). The meeting will be held from 9:30 a.m. to 5:00 p.m. in rooms 3200-3204 of the Nassif building at the Department of Transportation, 400 Seventh Street, SW, Washington, DC.

The purpose of the Study Group meeting is to assist the Departments of State and Transportation in determining the U.S. negotiating position for the first session of the UNCITRAL Working Group on this draft instrument, to be held in New York from April 15 to 26, 2002.

The text prepared by CMI at the request of UNCITRAL will constitute the basic working document of the UNCITRAL Working Group. A copy of the preliminary draft convention should shortly be available on UNCITRAL's website, www.uncitral.org. Persons interested in the work of the study group may also request copies from Ms. Rosalia Gonzales by fax at 202-776-8482, by telephone at 202-776-8420 (you may leave your request, name, telephone number, e-mail, or mailing address on the answering machine), or by e-mail at gonzaler@ms.state.gov. E-mail is the most efficient way to transmit the documents.

The Study Group meeting is open to the public up to the capacity of the meeting room. Persons wishing to attend should contact Ms. Gonzales by telephone, fax, or e-mail, providing their name, affiliation, telephone and fax number, and e-mail address. Persons who wish to have their views considered are encouraged to submit written comments in advance of the meeting. Comments should refer to docket number MARAD-2001-11135. Written comments may be submitted to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., e.s.t., Monday through Friday, except federal holidays. An electronic version of this document along with all documents entered into this docket is available on the World Wide Web at http://dms.dot.gov.

Mary Helen Carlson,
Attorney-Adviser, Office of the Assistant Legal Adviser For Private International Law, U.S. Department of State.
Edmund T. Sommer, Jr.,
Chief, Division of General and International Law, Office of the Chief Counsel, Maritime Administration, U.S. Dept. of Transportation.

[FR Doc. 01-31971 Filed 12-27-01; 8:45 am]

BILLING CODE 4710-08-P